DEPARTMENT OF COMMERCE

International Trade Administration

[A-570-851]

Certain Preserved Mushrooms from the People's Republic of China: Initiation of Seventh New Shipper Antidumping Duty Review

AGENCY: Import Administration, International Trade Administration, Department of Commerce.

SUMMARY: The Department of Commerce received several requests in August 2003 to conduct a new shipper review of the antidumping duty order on certain preserved mushrooms from the People's Republic of China (“PRC”). In accordance with 19 CFR 351.214(d), we are initiating a new shipper review for two of the companies that requested such a review: Guangxi Hengxian Pro-Light Foods, Inc., a producer and exporter of certain preserved mushrooms from the PRC; and Nanning Runchao Industrial Trade Company, Ltd., an exporter of certain preserved mushrooms from the PRC.

EFFECTIVE DATE: October 7, 2003.

FOR FURTHER INFORMATION CONTACT: Brian Smith or Sophie Castro, Import Administration, International Trade Administration, U.S. Department of Commerce, 14th Street and Constitution Avenue, N.W., Washington, D.C. 20230; telephone (202) 482-1766 or (202) 482-0588, respectively.

SUPPLEMENTARY INFORMATION:

Background

The Department has received timely requests in August 2003 from: (1) Guangxi Hengxian Pro-Light Foods, Inc. (“Guangxi Hengxian”); (2) Nanning Runchao Industrial Trade Company, Ltd. (“Nanning Runchao”); (3) Xiamen International Trade and Industry Company, Ltd. (“XITIC”); (4) Xiamen Zhongjia Import and Export Company, Ltd. (“Zhongjia”); (5) Zhangzhou Longhai Minhui Industry and Trade Co., Ltd. (“Minhui”); and (6) Shanghai Superlucky Import & Export Company, Ltd (“Superlucky”), in accordance with 19 CFR 351.214(c), for a new shipper review of the antidumping duty order on certain preserved mushrooms from the PRC, which has an August semi-annual anniversary month. On September 22, 2003, Superlucky withdrew its request for a new shipper review. Accordingly, we have not considered Superlucky in this new shipper review initiation.

Guangxi Hengxian identified itself as the producer of the preserved mushrooms it exports. Nanning Runchao identified itself as an exporter of preserved mushrooms produced by its supplier, Guangxi Yizhou Dongfang Cannery (“Guangxi Yizhou”). XITIC identified itself as an exporter of preserved mushrooms produced by its supplier, Inter-Foods (D.S.) Company, Ltd.¹ Zhongjia identified itself as an exporter of preserved mushrooms produced by its supplier, Zhangzhou Hongning Canned Food Factory. Minhui identified itself as an exporter of preserved mushrooms produced by its supplier, Longhai Jiuhu Longhuan Tin Food Factory.²

¹ On August 7, 2003, the Department issued a memorandum notifying interested parties of its intent to rescind the new shipper review of this company, initiated on March 28, 2003 (see 68 FR 15152), because XITIC's certification failed to identify correctly the producer of the subject merchandise.

² On August 4, 2003, the Department preliminarily rescinded the new shipper review of Zhongjia and Minhui, initiated on October 7, 2002, because Zhongjia's and Minhui's certifications failed to identify correctly the producer of the subject merchandise (see 68 FR 45792 and 67 FR 62438, respectively).

As required by 19 CFR 351.214(b)(2)(i), (ii), and (iii)(A), each company identified above has certified that it did not export certain preserved mushrooms to the United States during the period of investigation (“POI”), and that it has never been affiliated with any exporter or producer which did export certain preserved mushrooms during the POI. Each company has further certified that its export activities are not controlled by the central government of the PRC, satisfying the requirements of 19 CFR 351.214(b)(2)(iii)(B). Pursuant to 19 CFR 351.214(b)(2)(iv)(A), each company provided the date of the first sale to an unaffiliated customer in the United States. Each company submitted documentation establishing the date on which it first shipped the subject merchandise to the United States and the volume of that shipment. Nanning Runchao, Zhongjia and Minhui also provided the date of entry of that first shipment.

In accordance with section 751(a)(2)(B) of the Tariff Act of 1930 (“the Act”), as amended, and 19 CFR 351.214(b), and based on our analysis of the information and documentation provided with the new shipper review requests, as well as our analysis of proprietary import data from the U.S. Bureau of Customs and Border Protection (“Customs”), we find that Nanning Runchao and Guangxi Hengxian have met the requirements under which the Department can initiate a new shipper review (for more details, see New Shipper Initiation Checklists for Nanning Runchao and Guangxi Hengxian). Therefore, we are initiating a new shipper review for Nanning Runchao and Guangxi Hengxian. Furthermore, based on our analysis of the information and documentation provided with the new shipper review requests, as well as our analysis of proprietary import data from Customs, we find that XITIC, Zhongjia and Minhui all had transactions which took place outside of the relevant period of review (“POR”) and therefore do not meet the requirements under which the Department can initiate a new shipper review (for more details, see New Shipper Initiation Checklists for XITIC, Zhongjia and Minhui). Thus, we are not initiating a new shipper review for XITIC, Zhongjia and Minhui.

In cases involving non-market economies, it is the Department's normal practice to require that a company seeking to establish eligibility for an antidumping duty rate separate from the country-wide rate provide de jure and de facto evidence of an absence of government control over the company's export activities. Accordingly, we will issue a questionnaire to Nanning Runchao and Guangxi Hengxian (including a complete separate rates section), allowing approximately 37 days for response. If the response from each respondent provides sufficient indication that it is not subject to either de jure or de facto government control with respect to its exports of brake rotors, the review will proceed. If a respondent does not demonstrate its eligibility for a separate rate, then it will be deemed to be affiliated with other companies that exported during the POI and that it did not establish entitlement to a separate rate, and the review of that respondent will be rescinded.

Initiation of Review

In accordance with section 751(a)(2)(B)(ii) of the Act and 19 CFR 351.214(d)(1), we are initiating a new shipper review of the antidumping duty order on certain preserved mushrooms from the PRC. We intend to issue the preliminary results of this review not later than 180 days after the date on which the review is initiated.

In accordance with 19 CFR 351.214(g)(1)(i)(B), the POR for a new shipper review, initiated in the month following the semi-annual anniversary month, will be the six-month period immediately proceeding the semi-annual anniversary month. Therefore, the POR for this new shipper review is:

Antidumping Duty New Shipper Review Proceeding | Period to be Reviewed
PRC: Certain Preserved Mushrooms, A-570-851:
Nanning Runchao Industrial Trade Company, Ltd. | 02/01/03 - 07/31/03
Guangxi Hengxian Pro-Light Foods, Inc. | 02/01/03 - 07/31/03

We will instruct Customs to allow, at the option of the importer, the posting, until the completion of the review, of a bond or security in lieu of a cash deposit for each entry of the subject merchandise from the above-listed companies. This action is in accordance with section 751(a)(2)(B)(iii) of the Act, as amended, and 19 CFR 351.214(e). With regard to Guangxi Hengxian, because Guangxi Hengxian has certified that it both produces and exports the subject merchandise, the sale of which was the basis for its new shipper review request, we will apply the bonding privilege only to entries of subject merchandise for which it is both the producer and exporter. With regard to Nanning Runchao and its producer Guangxi Yizhou, we will apply the bonding privilege only to entries of the subject merchandise exported by Nanning Runchao which was also produced by Guangxi Yizhou.

Interested parties that need access to proprietary information in this new shipper review should submit applications for disclosure under administrative protective order in accordance with 19 CFR 351.305 and 351.306.

This initiation and notice are in accordance with section 751(a)(2)(B) of the Act (19 U.S.C. 1675(a)) and 19 CFR 351.214(d).

Dated: September 30, 2003.
Jeffrey May,
Deputy Assistant Secretary for Import Administration.

[FR Doc. 03-25387 Filed 10-6-03; 8:45 am]

BILLING CODE 3510-DS-S